DEPARTMENT OF AGRICULTURE

Submission for OMB Review; Comment Request

August 21, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: National Hunger Clearinghouse Database Form.

OMB Control Number: 0584-0474.

Summary of Collection: The National Hunger Clearinghouse collects, develops and distributes information and resources to help build the capacity of emergency food providers to address the immediate needs of struggling families and individuals while promoting self-reliance and access to healthy food. The Clearinghouse includes the National Hunger Hotline, which refers people in need anywhere in the U.S. to food pantries, soup kitchen, government programs and model grassroots organizations. Section 26 of the National School Lunch Act, which was added to the Act by Section 123 of Public Law 103-448 on November 2, 1994, mandated that the Food and Nutrition Service (FNS) enter into a contract with a non governmental organization to develop and maintain a national information clearinghouse of grassroots organizations working on hunger, food, nutrition, and other agricultural issues, including food recovery, food assistance and self-help activities to aid individuals to become self-reliant and other activities that empower low-income individuals. FNS will collect information using FNS-543, National Hunger Clearinghouse Database Form.

Need and Use of the Information: FNS will collect information to provide a resource for groups that assist low-income individuals or communities regarding nutrition assistance program or other assistance. The information aids FNS to fight hunger and improve nutrition by increasing participation in the FNS nutrition programs through the development, coordination, and evaluation of strategic initiatives, partnership, and outreach activities.

Description of Respondents: Not-for-profit institutions; Business or other for-profit.

Number of Respondents: 1,750.

Frequency of Responses: Reporting: Annually.

Total Burden Hours: 292.

Ruth Brown,
Departmental Information Collection Clearance Officer.

[FR Doc. 2012-20915 Filed 8-23-12; 8:45 am]

BILLING CODE 3410-30-P